DEPARTMENT OF ENERGY

Federal Energy Regulatory Commission

[Project No. 485-063]

Georgia Power Company; Notice of Intent To File License Application, Filing of Pre-Application Document, Commencement of Licensing Proceeding, and Scoping; Request for Comments on the Pad and Scoping Document, and Identification of Issues and Associated Study Requests

July 6, 2009.

a. Type of Filing: Notice of Intent to File License Application for a New License and Commencing Licensing Proceeding.

b. Project No.: 485-063.

c. Dated Filed: May 6, 2009.

d. Submitted By: Georgia Power Company.

e. Name of Project: Bartletts Ferry Hydroelectric Project.

f. Location: On the Chattahoochee River in Harris County, Georgia and Lee and Chambers counties, Alabama. The project does not occupy any federal lands.

g. Filed Pursuant to: 18 CFR Part 5 of the Commission's Regulations.

h. Potential Applicant Contact: Charles H. Huling P.E., Vice President, Georgia Power Company, Environmental Affairs, 241 Ralph McGill Boulevard, NE., BIN 10221, Atlanta, GA 30308-3374. Attn. George A. Martin.

i. FERC Contact: Janet Hutzel at (202) 502-8675, or e-mail at janet.hutzel@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See, 94 FERC ¶ 61,076 (2001).

k. With this notice, we are initiating informal consultation with: (a) The U.S. Fish and Wildlife Service and/or NOAA Fisheries under section 7 of the Endangered Species Act and the joint agency regulations thereunder at 50 CFR, Part 402, and (b) the Alabama and Georgia State Historic Preservation Officers, as required by section 106, National Historical Preservation Act, and the implementing regulations of the Advisory Council on Historic Preservation at 36 CFR 800.2.

l. With this notice, we are designating Georgia Power Company as the Commission's non-federal representative for carrying out informal consultation, pursuant to section 7 of the Endangered Species Act and section 106 of the National Historic Preservation Act.

m. Georgia Power Company filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, or toll free at 1-866-208-3676, or for TTY, (202) 502-8659. A copy is also available for inspection and reproduction at the address in paragraph h.

Register online at http://www.ferc.gov/docs-filing/esubscription.asp to be notified via e-mail of new filings and issuances related to this or other pending projects. For assistance, contact FERC Online Support.

o. With this notice, we are soliciting comments on the PAD and Scoping Document 1 (SD1), as well as study requests. All comments on the PAD and SD1, and study requests should be sent to the address above in paragraph h. In addition, all comments on the PAD and SD1, study requests, requests for cooperating agency status, and all communications to and from Commission staff related to the merits of the potential application (original and eight copies) must be filed with the Commission at the following address: Kimberly D. Bose, Secretary, Federal Energy Regulatory Commission, 888 First Street, NE., Washington, DC 20426. All filings with the Commission must include on the first page the project name (Bartletts Ferry Hydroelectric Project) and the project number (P-485-063), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by September 4, 2009.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

p. Although our current intent is to prepare an environmental assessment (EA), there is the possibility that an Environmental Impact Statement (EIS) will be required. Nevertheless, this meeting will satisfy the NEPA scoping requirements, irrespective of whether an EA or EIS is issued by the Commission.

Scoping Meetings

Commission staff will hold scoping meetings in the vicinity of the project at the times and places noted below. The daytime meetings will focus on resource agency, Indian tribes, and non-governmental organization concerns, while the evening meetings are primarily for receiving input from the public. We invite all interested individuals, organizations, and agencies to attend any of the meetings, and to assist staff in identifying particular study needs, as well as the scope of environmental issues to be addressed in the environmental document. The times and locations of these meetings are as follows:

August 4, 2009, Daytime Scoping Meeting

Date: Tuesday, August 4, 2009.

Time: 1 p.m. EST.

Location: City of Valley, Alabama's Community Center, 130 Sportsplex Drive, Valley, Alabama 36854.

August 4, 2009, Evening Scoping Meeting

Date: Tuesday, August 4, 2009.

Time: 6 p.m. EST.

Location: City of Valley, Alabama's Community Center, 130 Sportsplex Drive, Valley, Alabama 36854.

August 6, 2009, Daytime Scoping Meeting

Date: Thursday, August 6, 2009.

Time: 1 p.m. EST.

Location: Old Mountain Hill Schoolhouse, 47 Mountain Hill Road, Fortson, Georgia 31808.

August 6, 2009, Evening Scoping Meeting

Date: Thursday, August 6, 2009.

Time: 6 p.m. EST.

Location: Old Mountain Hill Schoolhouse, 47 Mountain Hill Road, Fortson, Georgia 31808.

Scoping Document 1 (SD1), which outlines the subject areas to be addressed in the environmental document, was mailed to the individuals and entities on the Commission's mailing list. Copies of SD1 will be available at the scoping meetings, or may be viewed on the Web at http://www.ferc.gov, using the “eLibrary” link. Follow the directions for accessing information in paragraph n. Based on all oral and written comments, a Scoping Document 2 (SD2) may be issued. SD2 may include a revised process plan and schedule, as well as a list of issues, identified through the scoping process.

Site Visit

Georgia Power Company and Commission staff will conduct a site visit of the project facilities on Wednesday, August 5, 2009, starting at 10:30 a.m. EST. The site visit will entail touring the project dam and powerhouse. At 1 p.m. EST, a tour of Lake Harding will start from the project's powerhouse. Anyone interested in visiting the project facilities and/or touring Lake Harding must send an e-mail to Bartletts Ferry Relicensing, at bfrelice@southerco.com, by July 24, 2009. Please indicate if you want to visit the project facilities, tour Lake Harding, or both. Participants of the tours must provide identification, sign a liability waiver, and wear appropriate clothing and closed toed shoes. If any participant attending any part of the sites visit is disabled or has special needs, please e-mail Bartletts Ferry Relicensing, at bfrelice@southerco.com.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this notice.

Meeting Procedures

The meetings will be recorded by a stenographer and will become part of the formal record of the Commission proceeding on the project.

Kimberly D. Bose,
Secretary.

[FR Doc. E9-16444 Filed 7-10-09; 8:45 am]

BILLING CODE 6717-01-P